FEDERAL DEPOSIT INSURANCE CORPORATION

[OMB No. 3064-0112; -0125; -0177]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0112; -0125 and -0177).

DATES: Comments must be submitted on or before April 11, 2023.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collection of information:

1. Title: Real Estate Lending Standards.

OMB Number: 3064-0112.

Forms: None.

Affected Public: Insured state nonmember banks and state savings associations.

Burden Estimate:

Summary of Estimated Annual Burden
[OMB No. 3064-0112]
Information collection (obligation to respond) | Type of burden (frequency of response) | Number of respondents | Number of responses per respondent | Time per response (HH:MM) | Annual burden (hours)
1. Real Estate Lending Standards, 12 CFR 365 (Mandatory) | Recordkeeping (Annual) | 3,086 | 1 | 20:00 | 61,720
Total Annual Burden (Hours): |  |  |  |  | 61,720
Source: FDIC.

General Description of Collection: Section 1828(o) of the Federal Deposit Insurance Act requires each federal banking agency to adopt uniform regulations prescribing real estate lending standards. Part 365 of the FDIC Rules and Regulations, which implements section 1828(o), requires institutions to have real estate lending policies that include (a) limits and standards consistent with safe and sound banking practices; (b) prudent underwriting standards, including loan-to-value ratio (LTV) limits that are clear and measurable; (c) loan administration policies; (d) documentation, approval and reporting requirements; and (e) a requirement for annual review and approval by the board of directors. The rule also establishes supervisory LTV limits and other underwriting considerations in the form of guidelines. Since banks generally have written policies on real estate lending, the additional burden imposed by this regulation is limited to modifications to existing policies necessary to bring those policies into compliance with the regulation and the development of a system to report loans in excess of the guidelines to the board of directors. There is no change in the substance or methodology of this information collection. The change in burden is due to a decrease in the number of respondents.

2. Title: Foreign Banking and Investment by Insured State Nonmember Banks.

OMB Number: 3064-0125.

Forms: None.

Affected Public: Insured state nonmember banks and state savings associations.

Burden Estimate:

Summary of Estimated Annual Burden
[OMB No. 3064-0125]
Information collection (obligation to respond) | Type of burden (frequency of response) | Number of respondents | Number of responses per respondent | Time per response (HH:MM) | Annual burden (hours)
1. Notices or applications to establish, move, or close a foreign branch, 12 CFR 303.182 (Mandatory) | Reporting (On Occasion) | 1 | 1 | 02:00 | 2
2. Filings for authorization for foreign branch to engage in activities other than those permitted under 12 CFR 347.115, 12 CFR 303 (Mandatory) | Reporting (On Occasion) | 1 | 1 | 40:00 | 40
3. Filings to invest in foreign organizations, or to engage in certain activities through foreign organizations, 12 CFR 303.183(b) and 303.121, (Mandatory) | Reporting (On Occasion) | 2 | 1 | 60:00 | 120
4. Merger transactions involving foreign organizations, 12 CFR 303.185(b) and 12 CFR 303.62 (Mandatory) | Reporting (On Occasion) | 1 | 1 | 06:00 | 6
5. Filings by insured state nonmember banks to invest in, or divest its interest in, a foreign organization, 12 CFR 303.183 (Mandatory) | Reporting (On Occasion) | 1 | 1 | 02:00 | 2
6. Notice of foreign divestiture of foreign organization, 12 CFR 303.183(d) (Mandatory) | Reporting (On Occasion) | 1 | 1 | 01:00 | 1
7. Document policies and procedures for supervision of foreign activities, 12 CFR 347.116 (Mandatory) | Recordkeeping (Annual) | 6 | 1 | 400:00 | 2,400
Total Annual Burden (Hours): |  |  |  |  | 2,571
Source: FDIC.

General Description of Collection: The Federal Deposit Insurance (FDI) Act requires state nonmember banks to obtain FDIC consent to establish or operate a foreign branch, or to acquire and hold, directly or indirectly, stock or other evidence of ownership in any foreign bank or other entity. The FDI Act also authorizes the FDIC to impose conditions for such consent and to issue regulations related thereto. This collection is a direct consequence of those statutory requirements. There is no change in the substance or methodology of this information collection. The change in burden is due to a decline in the number of FDIC-supervised institutions that operate foreign branches and one fewer estimated respondent to IC 6.

3. Title: Treatment by the FDIC as Conservator or Receiver of Financial Assets Transferred by an Insured Depository Institution in Connection With a Securitization or Participation after September 30, 2010.

OMB Number: 3064-0177.

Forms: None.

Affected Public: Insured Depository Institutions.

Burden Estimate:

Summary of Estimated Annual Burden
[OMB No. 3064-0177]
Information collection (obligation to respond) | Type of burden (frequency of response) | Number of respondents | Number of responses per respondent | Time per response (HH:MM) | Annual burden (hours)
1. Credit performance and changes to compensation arrangements, 12 CFR 360.6(b)(2)(i)(C) & (D) (Mandatory) | Disclosure (Monthly) | 28 | 125.857 | 02:00 | 7,048
2. Securitization structure and initial compensation arrangements, 12 CFR 360.6(b)(2)(i)(B) & (D) (Mandatory) | Disclosure (On Occasion) | 28 | 10.488 | 03:00 | 882
3. Residential mortgages: loan-level information and sponsor's disclosure of third-party due diligence report on compliance with 360.6(b)(2)(ii)(B), 12 CFR 360.6(b)(2)(ii)(A) & (B) (Mandatory) | Disclosure (On Occasion) | 3 | 3.667 | 02:00 | 22
4. Residential mortgages: servicer or affiliate ownership interests, 12 CFR 360.6(b)(2)(ii)(C) (Mandatory) | Disclosure (On Occasion) | 19 | 4.789 | 01:00 | 91
5. Securitization documents, 12 CFR 360.6(c)(7) (Mandatory) | Recordkeeping (On Occasion) | 28 | 10.488 | 01:00 | 294
Total Annual Burden (Hours): |  |  |  |  | 8,337
Source: FDIC.

General Description of Collection: Part 360.6 of the FDIC's regulations sets forth certain conditions that must be satisfied for a securitization transaction sponsored by an insured depository institution to be eligible for special treatment in the event that the FDIC is appointed receiver for the sponsor. Among other conditions, the securitization documents must require compliance with certain disclosure requirements (including the requirements of Regulation AB of the Securities and Exchange Commission). Conditions of eligibility for special treatment for participations in financial assets under part 360.6 are also set forth.

Based upon a closer review of the Rule, the FDIC has re-categorized the information collection requirements in 12 CFR part 360.6 into five distinct information collections (ICs) covering: (1) periodic disclosures of credit performance or changes to initial compensation arrangements under 12 CFR 360.6(b)(2)(i)(C) and (D); (2) disclosures of initial compensation arrangements and securitization structure under 12 CFR 360.6(b)(2)(i)(B) and (D); (3) sponsors' disclosures of loan-level information and third-party due diligence reports for RMBSs under 12 CFR 360.6(b)(2)(ii)(A) and (B); (4) servicers' disclosures of servicer or affiliate ownership interests for securitizations in which the assets include residential mortgage loans under 12 CFR 360.6(b)(2)(ii)(C); and (5) a recordkeeping requirement that the closing documents of a securitization be maintained in a readily accessible form under 12 CFR 360.6(c)(7). The burden associated with these five categories are enumerated in the estimated burden table which now identifies the regulatory authorities for each IC.

While there is no change in the substance of the information collection, the ICR is being revised to reflect the re-categorization of the PRA requirements in 12 CFR part 360.6 into five distinct ICs. The additional IC was added to this ICR to recognize the periodic credit performance disclosure requirement.

Request for Comment: Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, on February 7, 2023.
James P. Sheesley,
Assistant Executive Secretary.

[FR Doc. 2023-02848 Filed 2-9-23; 8:45 am]

BILLING CODE 6714-01-P